DEPARTMENT OF LABOR

Employment and Training Administration

Federal-State Unemployment Compensation Program: Certifications for 2005 Under the Federal Unemployment Tax Act

AGENCY: Employment and Training Administration.

ACTION: Notice.

SUMMARY: The Secretary of Labor signed the annual certifications under the Federal Unemployment Tax Act, 26 U.S.C. 3301 et seq., thereby enabling employers who make contributions to state unemployment funds to obtain certain credits against their liability for the federal unemployment tax. By letter the certifications were transmitted to the Secretary of the Treasury. The letter and certifications are printed below.

Signed in Washington, DC, May 5, 2006.
Emily Stover DeRocco,
Assistant Secretary of Labor, Employment and Training Administration.

November 21, 2005.

The Honorable John W. Snow, Secretary of the Treasury, Washington, DC 20220.

Dear Secretary Snow: Transmitted herewith are an original and one copy of the certifications of the states and their unemployment compensation laws for the 12-month period ending on October 31, 2005. One is required with respect to the normal Federal unemployment tax credit by Section 3304 of the Internal Revenue Code of 1986 (IRC), and the other is required with respect to the additional tax credit by Section 3303 of the IRC. Both certifications list all 53 jurisdictions.

Sincerely,

Elaine L. Chao

Enclosures

Certification of States to the Secretary of the Treasury Pursuant to Section 3304(C) of The Internal Revenue Code Of 1986

In accordance with the provisions of Section 3304(c) of the Internal Revenue Code of 1986 (26 U.S.C. 3304(c)), I hereby certify the following named states to the Secretary of the Treasury for the 12-month period ending on October 31, 2005, in regard to the unemployment compensation laws of those states which heretofore have been approved under the Federal Unemployment Tax Act:

Alabama | Idaho
Alaska | Illinois
Arizona | Indiana
Arkansas | Iowa
California | Kansas
Colorado | Kentucky
Connecticut | Louisiana
Delaware | Maine
District of Columbia | Maryland
Florida | Massachusetts
Georgia | Michigan
Hawaii | Minnesota
Mississippi | Puerto Rico
Missouri | Rhode Island
Montana | South Carolina
Nebraska | South Dakota
Nevada | Tennessee
New Hampshire | Texas
New Jersey | Utah
New Mexico | Vermont
New York | Virginia
North Carolina | Virgin Islands
North Dakota | Washington
Ohio West | Virginia
Oklahoma | Wisconsin
Oregon | Wyoming
Pennsylvania |

This certification is for the maximum normal credit allowable under Section 3302(a) of the Code.

Elaine L. Chao,
Secretary of Labor.

Certification of State Unemployment Compensation Laws to the Secretary of the Treasury Pursuant to Section 3303(B)(1) of the Internal Revenue Code of 1986

In accordance with the provisions of paragraph (1) of Section 3303(b) of the Internal Revenue Code of 1986 (26 U.S.C. 3303(b)(1)), I hereby certify the unemployment compensation laws of the following named states, which heretofore have been certified pursuant to paragraph (3) of Section 3303(b) of the Code, to the Secretary of the Treasury for the 12-month period ending on October 31, 2005:

Alabama | Idaho
Alaska | Illinois
Arizona | Indiana
Arkansas | Iowa
California | Kansas
Colorado | Kentucky
Connecticut | Louisiana
Delaware | Maine
District of Columbia | Maryland
Florida | Massachusetts
Georgia | Michigan
Hawaii | Minnesota
Mississippi | Puerto Rico
Missouri | Rhode Island
Montana | South Carolina
Nebraska | South Dakota
Nevada | Tennessee
New Hampshire | Texas
New Jersey | Utah
New Mexico | Vermont
New York | Virginia
North Carolina | Virgin Islands
North Dakota | Washington
Ohio | West Virginia
Oklahoma | Wisconsin
Oregon | Wyoming
Pennsylvania |

This certification is for the maximum additional credit allowable under Section 3302(b) of the Code.

Elaine L. Chao,
Secretary of Labor.

[FR Doc. E6-7508 Filed 5-16-06; 8:45 am]

BILLING CODE 4510-30-P